DEPARTMENT OF HEALTH AND HUMAN SERVICES

Centers for Disease Control and Prevention

Georgia Tuberculosis Outbreak Among Homeless

AGENCY: Centers for Disease Control and Prevention (CDC), Department of Health and Human Services (HHS).

ACTION: Notice of award.

SUMMARY: The Centers for Disease Control and Prevention (CDC) located within the United States Department of Health and Human Services (HHS) announces a notice of award to the Georgia Department of Public Health, Tuberculosis (TB) Program. This award will be in the amount of $419,095.00.

The purpose of this award is to halt the further spread of a drug-resistant strain of tuberculosis associated with multiple homeless shelters in Fulton County, Georgia.

DATES: It is expected the notice of award will begin on or about September 3, 2014. The project period will be for one year.

FOR FURTHER INFORMATION CONTACT: Gail Burns-Grant, Division of Tuberculosis Elimination, Field Services and Evaluation Branch, Centers for Disease Control and Prevention, 1600 Clifton Road NE., MS E-10, Atlanta, GA 30333; phone: 404-639-5344; email: GAB2@cdc.gov.

SUPPLEMENTARY INFORMATION: Currently, the state of Georgia is experiencing a public health emergency in Fulton County where there has been extensive transmission of a drug-resistant strain of tuberculosis (TB) associated with multiple homeless shelters in the county. The Georgia Department of Public Health asked CDC to provide emergency funding for the immediate implementation of CDC recommendations provided as a result of a May 2014 outbreak investigation to prevent further transmission of this drug-resistant strain of tuberculosis and to prevent further deaths associated with this outbreak. Project number is CDC-RFA-PS14-1416.

Dated: September 4, 2014.
Ron A. Otten,
Acting Deputy Associate Director for Science, Centers for Disease Control and Prevention.

[FR Doc. 2014-21455 Filed 9-4-14; 4:15 pm]

BILLING CODE 4163-18-P